DEPARTMENT OF TRANSPORTATION

National Highway Traffic Safety Administration

Denial of Motor Vehicle Defect Petition, DP02-003

AGENCY: National Highway Traffic Safety Administration (NHTSA), Department of Transportation.

ACTION: Denial of petition for a defect finding.

SUMMARY: This notice sets forth the reasons for the denial of a petition submitted to NHTSA under 49 U.S.C. 30162, requesting that the agency vacate the March 7, 1995, settlement agreement between the U.S. Department of Transportation (U.S. DOT) and General Motors Corporation (GM), and order an immediate recall of the 1973-1987 C/K series pickup trucks with the fuel tank mounted outboard of the frame rails. The petition is hereinafter identified as DP02-003.

FOR FURTHER INFORMATION CONTACT: Mr. Jonathan White, Office of Defects Investigation (ODI), NHTSA, 400 Seventh Street, SW., Washington, DC 20590. Telephone: (202) 366-5226.

SUPPLEMENTARY INFORMATION: Mr. Jere L. Beasley of Beasley, Allen, Crow, Methvin, Portis & Miles, P.C. in Montgomery, AL, submitted a petition to NHTSA by letter dated February 27, 2002, requesting that the agency vacate the March 7, 1995, settlement agreement between the U.S. DOT and GM, and order an immediate recall of the model year 1973-1987 C/K series pickup trucks with the fuel tank mounted outboard of the frame rails. The petitioner alleges that since the settlement agreement, numerous persons have been injured and killed as a result of the defective design of the fuel tanks, but has not provided any data in support of this allegation.

On March 7, 1995, the former secretary of the U.S. DOT, Federico Peña, signed a settlement agreement with GM resolving NHTSA's defect investigation, EA92-041, involving an alleged fuel system integrity defect in model year 1970-1991 C/K pickup trucks. Secretary PeZa concluded that the settlement was in the public interest and best furthers DOT's interest in vehicle safety. NHTSA subsequently closed its defect investigation.

The settlement allowed the parties to avoid time-consuming, costly litigation of a complex matter that raised difficult factual and legal issues, and offered an opportunity for meaningful cooperation between government and industry to significantly enhance the safety of the driving public. The petitioner has not provided information, different in kind from that considered by the agency in the past, that leads us to conclude that the investigation should be reopened. Therefore, the petition is denied.

Authority: 49 U.S.C. 30162(d); delegations of authority at CFR 1.50 and 501.8.

Issued on: May 24, 2002.
Kenneth N. Weinstein,
Associate Administrator for Safety Assurance.

[FR Doc. 02-13838 Filed 5-31-02; 8:45 am]

BILLING CODE 4910-59-P